DEPARTMENT OF TRANSPORTATION

Bureau of Transportation Statistics

49 CFR Part 1420

[Docket No. BTS-2003-14317]

RIN Number 2139-AA10

Reports of Motor Carriers—Correction of Obsolete References and Minor Editorial Corrections

AGENCY: BTS, DOT.

ACTION: Final rule.

SUMMARY: The BTS is amending its regulation to eliminate obsolete agency references to the Interstate Commerce Commission and to make other minor editorial corrections that will improve the clarity of its regulations. This action is taken on BTS' initiative.

EFFECTIVE DATE: This rule is effective January 30, 2003.

FOR FURTHER INFORMATION CONTACT: Russell B. Capelle, Jr., Ph.D., Assistant BTS Director for Motor Carrier Information, Department of Transportation, 400 7th Street, SW., Washington, DC 20590; (202) 366-5685; e-mail: russ.capelle@bts.gov or Paula Robinson at (202) 366-2984; e-mail: paula.robinson@bts.gov.

SUPPLEMENTARY INFORMATION:

Electronic Access

An electronic copy of this document may be downloaded by using a computer, modem, and suitable communications software from the Government Printing Office's Electronic Bulletin Board Services at (202) 512-1661. Internet users may reach the Office of the Federal Register's home page at: http://www.nara.gov/fedreg and the Government Printing Office's database at: http://www.access.gpo.gov/nara. You can also view and download this document by going to the webpage of the Department's Docket Management System (http://dms.dot.gov/). On that page, click on “search.” On the next page, type the last five digits of the docket number shown in the heading of this document. Then click on “search.”

The public should be aware that anyone can search the electronic form of all comments received in the Department's Docket Management System by using the name of the individual submitting the comment (or signing the comment, if submitted on behalf of an association, business, labor union, etc.). You may review DOT's complete Privacy Act Statement in the Federal Register published on April 11, 2000 (Volume 65, Number 70; Pages 19477-78) or you may visit http://dms.dot.gov.

Background

The ICC Termination Act of 1995 (ICCTA) abolished the Interstate Commerce Commission (ICC) and transferred certain ICC functions to the Secretary of Transportation. The authority for the collection and dissemination of motor carrier financial information was transferred to the Secretary of Transportation under 49 U.S.C. 14123 and BTS' implementing regulations (49 CFR part 1420). The Secretary of Transportation delegated this responsibility to the BTS. This rule removes all references to the ICC and amends the regulatory language in 49 CFR part 1420 to reflect the delegation to BTS. The final rule also makes other minor editorial corrections to improve the clarity of the regulations.

Executive Order 12866 and DOT Regulatory Policies and Procedures

This rule is not a significant regulatory action under section 3(f) of E. O. 12866. Therefore, it has not been reviewed by the Office of Management and Budget under that order. It is not significant under the regulatory policies and procedures of the Department of Transportation (DOT) (44 FR 11040, February 26, 1979). Because this rule is editorial in nature and involves no costs or burdens, BTS has not prepared an economic evaluation.

Executive Order 12612 (Federalism)

These amendments have been analyzed in accordance with the principles and criteria contained in E.O. 12612. The BTS has determined that the amendments do not have sufficient federalism implications to warrant the preparation of a Federalism Assessment. Because this rule is editorial in nature and involves no costs or burdens, the amendments will not have a substantial direct effect on the States, on the relationship between the national government and the States, or on the distribution of power and responsibilities among the various levels of government.

Regulatory Flexibility Act Analysis

The Regulatory Flexibility Act (5 U.S.C. 601 et seq.) requires an agency to review its regulations to assess their impact on small entities unless the agency determines that a rule is not expected to have a significant impact on a substantial number of small entities. The changes in this direct final rule do not increase or decrease the data collected under Part 1420, the changes are editorial in nature and the purpose of the rule is to remove obsolete references. Thus, based on the above discussion, I certify this rule will not have a significant economic impact on a substantial number of small entities.

Unfunded Mandates Reform Act

This rule does not impose unfunded mandates under the Unfunded Mandates Reform Act of 1995. It does not result in costs of $100 million or more to either State, local, or tribal governments, in the aggregate, or to the private sector.

Environmental Assessment

The amendments in this final rule do not increase or decrease the data collected under part 1420, the changes are editorial in nature and the purpose of the rule is to remove obsolete references. Therefore, we find that these amendments will have no impact on the quality of the human environment.

Paperwork Reduction Act Analysis

There are no reporting or recordkeeping requirements associated with this final rule.

Regulation Identifier Number

A regulation identifier number (RIN) is assigned to each regulatory action listed in the Unified Agenda of Federal Regulations. The Regulatory Information Service Center publishes the Unified Agenda in April and October of each year. The RIN number 2139-AA10 contained in the heading of this document can be used to cross-reference this action with the Unified Agenda.

Notice and Opportunity for Public Comment Is Unnecessary

Under the Administrative Procedure Act (5 U.S.C. section 553), the BTS has determined that notice and an opportunity for public comment are unnecessary and contrary to the public interest. Because the amendments made in this final rule are ministerial and will have no substantive impact on the public, the rule is effective upon publication.

Regulatory Text

Accordingly, the Bureau of Transportation Statistics, under delegated authority pursuant to 49 CFR part 1, amends 49 CFR part 1420 as follows:

List of Subjects in 49 CFR Part 1420

Motor carriers, Reporting and recordkeeping requirements.

PART 1420—[AMENDED]

1. The authority citation for Part 1420 continues to read as follows:

Authority: 49 U.S.C. 14123.

2. The note following the authority citation for the Part is removed.

§ 1420.2 [Amended]

3. Section 1420.2, paragraph (b)(1), is amended by removing the word “effected,” and, in its place, adding the word “effective”.

4. Section 1420.2, paragraph (b)(5), is amended by removing the words “Annual Carrier Classification Survey Form” and, in their place, adding the words “Worksheet for Calculating Carrier Classification”.

§ 1420.3 [Amended]

5. Section 1420.3, paragraph (a), is amended by removing the words “subject to the Interstate Commerce Act.”

6. Section 1420.3, paragraph (b)(1), is amended by removing the word “effected,” and, in its place, adding the word “effective”.

7. Section 1420.3, paragraph (b)(4), is amended by removing the words “the Commission”, each time they appear, and in their place, adding the words “the BTS”; removing the phrase “Class I” and, in its place, adding “Class II'; and removing the words “the Bureau of Accounts, Interstate Commerce Commission, Washington, DC 20423” and, in their place, adding the words “the Bureau of Transportation Statistics at the address in § 1420.6”.

8. Section 1420.3, paragraph (c) is amended by removing the words “the Commission”, and in their place, adding the words “the BTS”.

§ 1420.4 [Amended]

9. Section 1420.4, paragraph (b), is amended by removing the words “the Commission”, each time they appear, and, in their place, adding the words “the BTS”.

10. Section 1420.4, paragraph (c), is amended by removing the words “The Bureau of Accounts, Interstate Commerce Commission, Washington, DC 20423”, and in their place, adding the words “the Bureau of Transportation Statistics at the address in § 1420.6” and, in the paragraph's final sentence, removing the words “the Bureau of Accounts” and in their place, adding the words “the BTS”.

§ 1420.6 [Amended]

11. Section 1420.6 is amended by removing the designation “K-27” and, in its place, adding “K-13”.

12. Section 1420.10, paragraph (a), is amended by removing the word “other” and, in its place, adding the word “otherwise”.

§ 1420.11 [Amended]

13. Section 1420.11, is amended by removing the words “as defined in § 1240.4 of this chapter, subject to part II of the Interstate Commerce Act” and adding the words § as defined in § 1420.3(a)''; removing the words “motor carrier Quarterly Report of Revenues, Expenses, and Statistics (class I carriers of passengers), form QPA.” and, in their place, adding the words “Motor Carrier Quarterly and Annual Report, Form MP-1.”; and removing the words “the Bureau of Accounts, Interstate Commerce Commission, Washington, DC 20423” and, in their place, adding the words “the Bureau of Transportation Statistics at the address in § 1420.6”.

Issued in Washington, DC, on January 22, 2003.
Russell B. Capelle, Jr.,
Assistant BTS Director for Motor Carrier Information, Bureau of Transportation Statistics.

[FR Doc. 03-2062 Filed 1-29-03; 8:45 am]

BILLING CODE 4910-FE-P